DEPARTMENT OF COMMERCE

National Oceanic and Atmospheric Administration

RIN 0648-ZC16

Pacific Coastal Salmon Recovery Fund

AGENCY: National Marine Fisheries Service (NMFS), National Oceanic and Atmospheric Administration (NOAA), Commerce.

ACTION: Notice of funding availability.

SUMMARY: NOAA announces the availability of Pacific Coastal Salmon Recovery Funding (PCSRF), as authorized in the Northern Boundary and Transboundary Rivers Restoration and Enhancement Fund and Southern Boundary Restoration and Enhancement Fund, to support the restoration and conservation of Pacific salmon and steelhead populations and their habitat. The program makes funding available to the States of Alaska, Washington, Oregon, Idaho, California and Nevada and Federally-recognized tribes of the Columbia River and Pacific Coast for projects necessary for conservation of salmon and steelhead populations that are listed as threatened or endangered, or identified by a State as at-risk or to be so-listed; for maintaining populations necessary for exercise of tribal treaty fishing rights or native subsistence fishing; or for conservation of Pacific coastal salmon and steelhead habitat. This announcement outlines the guidelines that will be used to distribute funding to eligible entities.

DATES: Pre-Applications are not mandatory, but highly encouraged. They must be received no later than April 23, 2010 if the applicant expects to receive any feedback from NMFS on completeness of package and initial determination of compliance with minimum requirements. Final Applications should be submitted via www.grants.gov and must be received no later than 11:59 p.m. PST on May 10, 2010. No facsimile or electronic mail applications will be accepted. Paper applications must be postmarked by May 10, 2010. Any application transmitted or postmarked, as the case may be, after the deadline will be considered non-responsive and will not be considered for funding in this competition. Applications submitted through Grants.gov will have a date and time indication on them. Hard copy applications will be date and time stamped when they are received.

Note: It may take Grants.gov up to two (2) business days to validate or reject the application. Please keep this in mind in developing your submission timeline.

ADDRESSES: All application materials can be found at the grants.gov portal at http://www.grants.gov. If an applicant does not have internet access, applications can be received from the following address: Nicolle Hill, NMFS Northwest Region Building #1, 7600 Sand Point Way, Seattle, WA 98115. NMFS' Internet website at http://www.nwr.noaa.gov contains additional information on PCSRF. For further information on PCSRF, please contact Scott Rumsey, NMFS Northwest Region PCSRF Program Coordinator at (503) 872-2791. Questions regarding this announcement should be directed to Nicolle Hill, NMFS Northwest Region PCSRF Federal Program Officer, at (206) 526-4358 or Nicolle.Hill@noaa.gov.

FOR FURTHER INFORMATION CONTACT: For further information on PCSRF, please contact Scott Rumsey, NMFS Northwest Region PCSRF Program Coordinator, at (503) 872-2791. Questions regarding this announcement should be directed to Nicolle Hill, NMFS Northwest Region PCSRF Federal Program Officer, at (206) 526-4358 or Nicolle.Hill@noaa.gov.

SUPPLEMENTARY INFORMATION: The PCSRF was established in Fiscal Year 2000 to address the need to protect, restore and conserve Pacific Chinook, chum, coho, pink and sockeye salmon and steelhead, and their habitat. Authorization of PCSRF was in response to the Endangered Species Act (ESA) listings of Pacific salmon and steelhead in Washington, Oregon, Idaho and California as well as the effects of the harvest restrictions placed on Southeast Alaska fishers through the 1999 Pacific Salmon Treaty agreement between the United States and Canada. The PCSRF supplements existing state, tribal and Federal programs to foster development of Federal-state-tribal-local partnerships in salmon recovery and conservation by providing grants to the eligible states, tribal commissions, and tribes. Under this solicitation, the National Oceanic and Atmospheric Administration (NOAA), National Marine Fisheries Service (NMFS) seeks applications for projects from individual eligible Indian tribes, eligible States, and representative Tribal commissions so that it can allocate the FY 2010 Federal funds for PCSRF grants on a merit basis. An applicant can only submit one application to the Federal Government for PCSRF program funding. Application submissions, requesting any funding from both the representative Tribal Commission and a Tribe represented by that Commission will not be accepted.

Electronic Access

The full text of the full funding opportunity announcement for this program can be accessed via the Grants.gov web site at http://www.grants.gov. The announcement will also be available by contacting the program officials identified under FOR FURTHER INFORMATION CONTACT. Applicants must comply with all requirements contained in the full funding opportunity announcement.

Statutory Authority

16 U.S.C. 3645 (d)(2) and The Consolidated Appropriations Act, 2010, P.L. 111-117

CFDA

11.438, Pacific Coast Salmon Recovery - Pacific Salmon Treaty Program

Funding Availability

Up to $80,000,000 may be available for fiscal year (FY) 2010 for projects. There are no restrictions on minimum funding request, but there is a limit of $30,000,000, on a maximum amount requested by any recipient. Award periods may extend to a maximum of five years.

Eligibility

Eligible state applicants are the States of Alaska, Washington, Oregon, Idaho, Nevada and California. Eligible tribal applicants are any federally recognized Pacific Coastal or Columbia River tribes.

Cost Sharing Requirements

State applicants are required to match or document in-kind contributions of at least 33% of received Federal funds. Indian tribes are exempt from any cost share requirement. Matching funds consist of PCSRF projects funded totally or partially by state appropriated funds; PCSRF projects that are funded totally or partially by sub-recipient or contractor funds; or PCSRF projects funded partially by other pre-approved sources of Federal funding. In-kind contributions must be applied directly to a PCSRF project in order to be considered match.

Evaluation and Selection Procedures

The general evaluation criteria and selection factors that apply to full applications to this funding opportunity are summarized below. Further information about the evaluation criteria and selection factors can be found in the full funding opportunity announcement.

Evaluation Criteria for Projects

NOAA standardized the evaluation and selection process for its competitive assistance programs. All proposals submitted in response to this notice shall be evaluated and selected in accordance with the process set out below. In considering the funding allocation for projects and program applications, all proposals will be evaluated on the following criteria with the maximum weighted values for each category listed below for a total of 100 points maximum:

1. Importance and/or relevance and applicability of proposed project to the program goals [30 Points]: This ascertains whether there is intrinsic value in the proposed work and its relevance to the PCSRF authorized activities and program priorities. Proposals will be evaluated based on how relevant and applicable their projects or program missions are to the authorized activities and program priorities listed at I.B. Successful applicants will be those that demonstrate their proposal directly addresses the PCSRF authorized activities and program priorities.

2. Technical/scientific merit [30 Points]: This assesses whether the approach is technically sound and/or innovative, if the methods are appropriate, and whether there are clear project goals and objectives. Proposals will be evaluated on whether there is a technically sound approach to manage and implement proposed projects; whether there is sufficient information to evaluate the project or program technically; and, if so, the strengths and/or weaknesses of the project or program approach to securing productive results. Successful program and project proposals will include:

a. A description of how the applicant organization will ensure that funded projects are part of a larger program plan.

b. A description of the proposed methods used for monitoring, measuring and evaluating the success or failure of the projects funded by the program.

c. A quantified amount of dedicated funding to monitoring activities, including salmon status and trend and habitat monitoring.

d. A description of how project details will be reported in order to track performance including: information detailing the project reporting mechanisms, the staffing resources that will be dedicated to reporting, and the specific information that will be reported.

e. A description of how the organization will communicate results of projects to target audiences. Successful program proposals (states and tribal commissions) will describe the organization's selection evaluation method and allocation and implementation process for proposed projects; set forth selection priorities reflecting PCSRF authorized activities and program priorities, detail decision processes and allocation timelines; and describe how technical merit is defined and determined and how project feasibility is evaluated. Successful project proposals (tribes) will describe the specified approaches to achieving the project objectives, including timelines, geographic areas and methods.

3. Overall qualifications of applicants [15 Points]: This ascertains whether the applicant possesses the necessary education, experience, training, facilities, and administrative resources to accomplish the project. The organization and its management will be evaluated. The principal investigator and other personnel, including subcontractors and consultants participating in the project or program will be evaluated in terms of related experience and qualifications. Successful applications will include the following:

a. Details about the organization's administrative resources, credibility, financial stability, business management systems, capability to comply with Federal requirements, history of strong performance in the management of Federal funds, and knowledge and demonstrated history of Federal cost principles compliance and sub-recipient fiscal monitoring (if applicable).

b. Applicants should illustrate that their organization has the appropriate management authority to implement actions identified in the proposal.

c. Applicants should describe how they adhered to past reporting requirements including reporting data into the PCSRF database, and how they resolved database reporting issues, inconsistencies or missing metrics, if applicable.

4. Project costs [25 Points]: Proposals will be evaluated on their budget to determine if it is realistic and commensurate with the program or project needs and time-frame. Successful proposals will include:

a. A needs statement which summarizes the extent, severity or prevalence of funding needed in the serving geographical area to meet the PCSRF program priorities. The needs statement should be supported by evidence and described quantitatively (i.e. miles/acres of habitat needing restoration; number or extent of ESA listed Pacific salmon or Pacific salmon at risk; stocks important for tribal treaty fishing rights or native subsistence fishing, etc.). The needs statement will also address the recipients other source of funding for proposed programs and projects.

b. A detailed budget by program or project level which also itemizes the proposal level and overall level of administrative and overhead costs.

c. A budget detail identifying a minimum of 10% proposed budget for monitoring, either comprehensive project effectiveness monitoring or status and trend monitoring, as part of a comprehensive program. Individual project proposals should specify costs for monitoring project-level implementation and effectiveness.

d. State applications must provide a budget detail which identifies the minimum matching or in-kind requirements of 33% of Federal funds requested.

5. Outreach and education [0 Points]: Outreach and education, as defined in section IV.B.4.g. (States and Tribal Commissions) and IV.B.4.f. (Tribes), will be evaluated under section V.A.2.e. Review and Selection Process. Upon receipt of an application, an initial administrative review will be conducted to determine compliance with requirements and completeness of the application. The application will need to meet the following minimum requirements to be considered for funding:

1. Applicant is eligible to apply

2. Received application by deadline

3. Application is complete and includes all mandatory forms

4. Matching requirements are met (State Only)

5. Administrative programmatic costs are not exceeded (State and Commissions Only) Individual evaluations comprised of at least three (3) or more private and public experts will independently evaluate the applications and score them using the evaluation criteria set forth above. No consensus advice will be given. The reviewer' ratings will be averaged to produce a rank order of the proposals. Technical reviewers will be required to certify that they do not have a conflict of interest and that they will maintain confidentiality of the applications.

Panel Review: After the projects have been evaluated and ranked, the Agency will solicit comments and input on funding recommendation from a panel of at least three (3) Federal full-time employees comprised of the NMFS Alaska Region, Northwest Region and Southwest Region. The Agency will provide the panelists with a summary of the technical review evaluations, and, the rank order of the proposals.

Selection Factors for Projects

The Assistant Administrator for NMFS will be the Selecting Official. The Selecting Official will review the rank order, funding recommendations and comments from the Panel Review Committee and determine the recipients to be funded and how much funding shall be awarded to each selected recipient. In making the final selections, the Selecting Official will award in rank order unless the proposal is justified to be selected out of rank order based upon one of the selection factors below:

1. Availability of Funding

2. Balance/distribution of funds:

a. Geographically

b. By type of institutions

c. By type of partners

d. By research areas

e. By project types

3. Whether this project duplicates other projects funded or considered for funding by NOAA or other Federal agencies

4. Program priorities and policy factors as set forth in the Full Funding Opportunity Sections I.A. and B.

5. Applicant's prior award performance. (Accomplishments related to PCSRF goals.)

6. Partnerships and/or Participation of targeted groups

Intergovernmental Review

Applications under this program from state or local governments are subject to the provisions of Executive Order 12372, “Intergovernmental Review of Federal Programs.”

Limitation of Liability

In no event will NOAA or the Department of Commerce be responsible for proposal preparation costs if these programs fail to receive funding or are cancelled because of other agency priorities. Publication of this announcement does not oblige NOAA to award any specific project or to obligate any available funds.

National Environmental Policy Act (NEPA)

NOAA must analyze the potential environmental impacts, as required by the National Environmental Policy Act (NEPA), for applicant projects or proposals which are seeking NOAA Federal funding opportunities. Detailed information on NOAA compliance with NEPA can be found at the following NOAA NEPA website: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements

The Department of Commerce Pre-Award Notification Requirements for Grants and Cooperative Agreements contained in the Federal Register notice of February 11, 2008 (73 FR 7696), are applicable to this solicitation.

Paperwork Reduction Act

This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001.

Notwithstanding any other provision of law, no person is required to, nor shall a person be subject to a penalty for failure to comply with, a collection of information subject to the requirements of the PRA unless that collection of information displays a currently valid OMB control number.

Executive Order 12866

This notice has been determined to be not significant for purposes of Executive Order 12866. Executive Order 13132 (Federalism): It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: March 18, 2010.
Gary C. Reisner,
Chief Financial Officer, National Marine Fisheries Service.

[FR Doc. 2010-6544 Filed 3-23-10; 8:45 am]

BILLING CODE 3510-22-S